DEPARTMENT OF DEFENSE

Office of the Secretary

Department of Defense Federal Advisory Committees—Armed Forces Retirement Home Advisory Council

AGENCY: Department of Defense (DoD).

ACTION: Notice of Federal Advisory Committee meeting.

SUMMARY: The DoD is publishing this notice to announce that the following Federal Advisory Committee meeting of the Armed Forces Retirement Home Advisory Council (AFRHAC) will take place.

DATES: AFRHAC will hold a meeting open to the public on Thursday, April 18, 2024, from 10:30 a.m. to 12:30 p.m. Eastern Standard Time (EST).

ADDRESSES: The meeting may be accessed by videoconference. Information for accessing the videoconference will be provided after registering. (Pre-meeting registration is required. See guidance in SUPPLEMENTARY INFORMATION, “Meeting Accessibility”.)

FOR FURTHER INFORMATION CONTACT: Mrs. Lakesia Campbell, Designated Federal Officer (DFO), (202) 541-0667 (voice), lakesia.campbell@afrh.gov (email). Website: www.afrh.gov/aboutus/advisory-council. The most up-to-date changes to the meeting agenda can be found on the website.

SUPPLEMENTARY INFORMATION: This meeting is being held under the provisions of chapter 10 of title 5 United States Code (U.S.C.) (commonly known as the “Federal Advisory Committee Act” or “FACA”), 5 U.S.C. 552b (commonly known as the “Government in the Sunshine Act”), and 41 CFR 102-3.140 and 102-3.150.

Availability of Materials for the Meeting: Additional information, including the agenda or any updates to the agenda, is available on the AFRHAC website (https://www.afrh.gov/aboutus/advisory-council). Materials presented in the meeting may also be obtained on the AFRHAC website.

Purpose of the Meeting: The purpose of the meeting is for the AFRHAC to receive briefings and have discussions on topics related to the administration of the Armed Forces Retirement Home.

Agenda: Thursday, April 18, 2024, from 10:30 a.m. to 12:30 p.m. EST—Meeting Open (Roll Call and Opening Remarks by Chair, Mr. Michael Heimall; Brief: AFRH budget and strategic plan; Brief: healthcare organization and accreditation; Brief: Sheridan Building renovation; Brief: electronic health record modernization.

Meeting Accessibility: Pursuant to Federal statutes and regulations (5 U.S.C. chapter 10, 5 U.S.C. 552b, and 41 CFR 102-3.140 through 102-3.165), this meeting is open to the public from 10:30 a.m. to 12:30 p.m. EST on April 18, 2024. The meeting will be held by videoconference. All members of the public who wish to attend must register by contacting Mrs. Lakesia Campbell at (202) 541-0667 or lakesia.campbell@afrh.gov no later than Friday, April 12, 2024 (by 5 p.m. EST). Once registered, the web address and/or audio number will be provided.

Special Accommodations: Individuals requiring special accommodations to access the public meeting should contact Mrs. Lakesia Campbell at (202) 541-0667 or lakesia.campbell@afrh.gov no later than Friday, April 12, 2024 (by 5:00 p.m. EST) so that appropriate arrangements can be made.

Written Statements: Pursuant to 41 CFR 102-3.140, 5 U.S.C. 1009(a)(3), interested persons may submit a written statement to the AFRHAC. Individuals submitting a statement must submit their statement no later than 5 p.m. EST, Friday, April 12, 2024 to Mrs. Lakesia Campbell at (202) 541-0667 or lakesia.campbell@afrh.gov. If a statement pertaining to a specific topic being discussed at the planned meeting is not received by Friday, April 12, 2024, prior to the meeting, then it may not be provided to, or considered by, the Council during the April 18, 2024, meeting. The DFO will review all timely submissions with the AFRHAC Chair and ensure such submissions are provided to the members of the AFRHAC before the meeting. Comments not received in time for provision prior to the meeting shall be provided to the AFRHAC Chair. Any comments received by the AFRHAC will be posted on the AFRHAC website (https://www.afrh.gov/aboutus/advisory-council).

Dated: March 27, 2024.
Aaron T. Siegel,
Alternate OSD Federal Register Liaison Officer, Department of Defense.

[FR Doc. 2024-06853 Filed 3-29-24; 8:45 am]

BILLING CODE 6001-FR-P